RAILROAD RETIREMENT BOARD

Correction to Agency Forms Submitted for OMB Review, Request for Comments

SUMMARY: In the document appearing on pages 734059 & 734060, FR Doc. E8-13431, Agency Forms Submitted for OMB Review, Request for Comments dated June 16, 2008, the Railroad Retirement Board is making a correction to add omitted language to the SUMMARY section that states the respondents' obligation to respond to RRB Form(s) UI-38, UI Claimant's Report of Efforts to Find Work, UI-38s, School Attendance and Availability Questionnaire, and ID-8k, Letter to Union Representative.

Correction of Publication: The RRB adds the following language to the end of the SUMMARY section, “Completion of Form(s) UI-38, UI Claimant's Report of Efforts to Find Work and UI-38s, School Attendance and Availability Questionnaire is required to obtain or retain benefits. Completion of Form ID-8k, Letter to Union Representative, is voluntary”.

Charles Mierzwa,
Clearance Officer.

[FR Doc. E8-16335 Filed 7-16-08; 8:45 am]

BILLING CODE 7905-01-P